DEPARTMENT OF COMMERCE

Economics and Statistics Administration

Decennial Census Advisory Committee

AGENCY: Economics and Statistics Administration, Department of Commerce.

ACTION: Notice of public meeting.

SUMMARY: Pursuant to the Federal Advisory Committee Act, title 5, United States Code, Appendix 2, section 10(a)(b), the Bureau of the Census (Census Bureau) is giving notice of a meeting of the Decennial Census Advisory Committee. The Committee will address issues related to the reengineered 2010 decennial census of population and housing, including the American Community Survey, the short-form-only 2010 census, and other related decennial programs. Last minute changes to the schedule are possible, which could prevent advance notification.

DATES: April 29-30, 2004. On April 29, the meeting will begin at approximately 8:30 a.m. and end at approximately 5:15 p.m. On April 30, the meeting will begin at approximately 8:30 a.m. and end at approximately 12:00 p.m.

ADDRESSES: The meeting will be held at the Sheraton Crystal City Hotel, 1800 Jefferson Davis Highway, Arlington, Virginia 22202.

FOR FURTHER INFORMATION CONTACT: Jeri Green, Committee Liaison Officer, Department of Commerce, U.S. Census Bureau, Room 3627, Federal Office Building 3, Washington, DC 20233, telephone (301) 763-2070, TTY (301) 457-2540.

SUPPLEMENTARY INFORMATION: The Decennial Census Advisory Committee is composed of a Chair, Vice-Chair, and up to 40 member organizations, all appointed by the Secretary of Commerce. The Committee considers the goals of the decennial census and data users' needs during its deliberations. The Committee provides an outside-user perspective about how research-and-design plans for the 2010 reengineered decennial census, the American Community Survey, and related decennial programs will realize those goals and satisfy those needs. The members of the Advisory Committee will draw on their experience with Census 2000 planning and operational processes, results of research studies, test censuses, and results of the Census 2000 evaluation program to provide input on the design and related operations of the 2010 reengineered decennial census, the American Community Survey, and related programs.

A brief period will be set aside at the meeting for public comment. However, individuals with extensive statements for the record must submit them in writing to the Census Bureau Committee Liaison Officer named above at least three working days prior to the meeting. Seating is available to the public on a first-come, first-served basis.

The meeting is physically accessible to people with disabilities. Requests for sign language interpretation or other auxiliary aids should be directed to the Census Bureau Committee Liaison Officer as soon as known and preferably two weeks prior to the meeting.

Dated: March 11, 2004.
Kathleen B. Cooper,
Under Secretary for Economic Affairs, Economics and Statistics Administration.

[FR Doc. 04-6003 Filed 3-16-04; 8:45 am]

BILLING CODE 3510-07-P